ENVIRONMENTAL PROTECTION AGENCY

[EPA-HQ-SFUND-2005-0007, FRL-9994-81-OMS]

Information Collection Request Submitted to OMB for Review and Approval; Comment Request; EPA Worker Protection Standards for Hazardous Waste Operations and Emergency Response (Renewal)

AGENCY: Environmental Protection Agency (EPA).

ACTION: Notice.

SUMMARY: The Environmental Protection Agency (EPA) has submitted an information collection request (ICR), EPA Worker Protection Standards for Hazardous Waste Operations and Emergency Response (EPA ICR Number 1426.12, OMB Control Number 2050-0105) to the Office of Management and Budget (OMB) for review and approval in accordance with the Paperwork Reduction Act. This is a proposed extension of the ICR, which is currently approved through August 31, 2019. Public comments were previously requested via the Federal Register on November 27, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before September 30, 2019.

ADDRESSES: Submit your comments, referencing Docket ID Number EPA-HQ-SFUND-2005-0007, to (1) EPA online using www.regulations.gov (our preferred method), by email to superfund.docket@epa.gov or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Sella M. Burchette, U.S. Environmental Response Team, MS 101, Building 205, Edison, NJ 08837, telephone number: 732-321-6726; fax number: 732-321-6724; email address: burchette.sella@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Section 126(f) of the Superfund Amendments and Reauthorization Act of 1986 (SARA) requires EPA to set worker protection standards for state and local employees engaged in hazardous waste operations and emergency response in the 27 states that do not have Occupational Safety and Health Administration approved state plans. The EPA coverage, as cited in 40 CRF 311, required to be identical to the OSHA standards, extends to three categories of employees: Those engaged in clean-ups at uncontrolled hazardous waste sites, including corrective actions at Treatment, Storage and Disposal (TSD) facilities regulated under the Resource Conservation and Recovery Act (RCRA); employees working on routine hazardous waste operations at RCRA TSD facilities; and employees involved in emergency response operations without regard to location. This ICR renews existing mandatory record keeping collection of ongoing activities including monitoring of any potential employee exposure at uncontrolled hazardous waste sites, maintaining records of employee training, refresher training, medical exams and reviewing emergency response plans.

Form Numbers: None.

Respondents/affected entities: Entities potentially affected by this action are those state and local employees engaged in hazardous waste operations and emergency response in the 27 states that do not have Occupational Health & Safety Administration (OSHA) approved state plans.

Respondent's Obligation to respond: 40 CFR 311 has no reporting requirements. There are record keeping requirements by inference in Section (e) and by statute in Section (f)[8] of OSHA's 29 CFR 1910.120.

Estimated total number of respondents: 1,115,213.

Frequency of response: Varies per activity.

Estimated total annual burden hours: 591,732 hours.

Estimated total annual costs: $18,534,441, which is entirely labor costs. There are no capital investment or maintenance and operational costs.

Changes in Estimates: For this ICR, the annual burden hour estimate is 591,732 hours. This represents an increase in 336,255 hours from the previous ICR. There have been no programmatic changes or modifications to per-activity estimates; the burden increase is a result of corrections being applied to the underlying calculations used in previous renewal packages.

Courtney Kerwin,
Director, Regulatory Support Division.

[FR Doc. 2019-18733 Filed 8-29-19; 8:45 am]

BILLING CODE 6560-50-P